DEPARTMENT OF COMMERCE

National Oceanic and Atmospheric Administration

50 CFR Part 679

[Docket No. 161020985-7181-02]

RIN 0648-XF509

Fisheries of the Exclusive Economic Zone Off Alaska; Reallocation of Pollock in the Bering Sea and Aleutian Islands

AGENCY: National Marine Fisheries Service (NMFS), National Oceanic and Atmospheric Administration (NOAA), Commerce.

ACTION: Temporary rule; reallocation; closure.

SUMMARY: NMFS is reallocating the projected unused amounts of the Aleut Corporation pollock directed fishing allowance from the Aleutian Islands subarea to the Bering Sea subarea. Also, NMFS is prohibiting directed fishing for pollock in the Aleutian Islands subarea of the Bering Sea and Aleutian Islands management area (BSAI). This action is necessary to provide opportunity for harvest of the 2017 total allowable catch of pollock, consistent with the goals and objectives of the Fishery Management Plan for Groundfish (FMP) of the BSAI.

DATES: Effective 1200 hrs, Alaska local time (A.l.t.), July 11, 2017, through 2400 hrs, A.l.t., December 31, 2017.

FOR FURTHER INFORMATION CONTACT: Steve Whitney, 907-586-7228.

SUPPLEMENTARY INFORMATION: NMFS manages the groundfish fishery in the BSAI exclusive economic zone according to the FMP prepared by the North Pacific Fishery Management Council (Council) under authority of the Magnuson-Stevens Fishery Conservation and Management Act. Regulations governing fishing by U.S. vessels in accordance with the FMP appear at subpart H of 50 CFR part 600 and 50 CFR part 679.

In the Aleutian Islands subarea, the portion of the 2017 pollock total allowable catch (TAC) allocated to the Aleut Corporation directed fishing allowance (DFA) is 5,700 metric tons (mt) as established by the final 2017 and 2018 harvest specifications for groundfish in the BSAI (82 FR 11826, February 27, 2017), and as adjusted by reallocations (82 FR 12750, March 7, 2017).

As of June 16, 2017, the Administrator, Alaska Region, NMFS, (Regional Administrator) has determined that 5,700 mt of the Aleut Corporation pollock DFA in the Aleutian Islands subarea will not be harvested. Therefore, in accordance with § 679.20(a)(5)(iii)(B)(4), NMFS reallocates 5,700 mt of A season pollock DFA from the Aleutian Islands subarea to the 2017 Bering Sea subarea DFAs. The 5,700 mt of the Aleut Corporation pollock DFA is added to the 2017 Bering Sea non-CDQ DFAs. As a result, the 2017 harvest specifications for pollock in the Aleutian Islands subarea included in the final 2017 and 2018 harvest specifications for groundfish in the BSAI (82 FR 11826, February 27, 2017), and as adjusted by reallocations (82 FR 12750, March 7, 2017) are revised as follows: 0 mt to the annual Aleut Corporation pollock DFA. Consequently, in accordance with § 679.20(d)(1)(iii), NMFS is prohibiting directed fishing for Aleut Corporation pollock in the Aleutian Islands subarea of the BSAI.

After the effective date of this closure the maximum retainable amounts at § 679.20(e) and (f) apply at any time during a trip.

Furthermore, pursuant to § 679.20(a)(5), Table 5 of the final 2017 and 2018 harvest specifications for groundfish in the Bering Sea and Aleutian Islands (82 FR 11826, February 27, 2017, and 82 FR 12750, March 7, 2017), is revised to make 2017 pollock allocations consistent with this reallocation. This reallocation results in adjustments to the 2017 pollock allocations established at § 679.20(a)(5).

Table 5—Final 2017 Allocations of Pollock TACS to the Directed Pollock Fisheries and to the CDQ Directed Fishing Allowances (DFA) ¹
[Amounts are in metric tons]
Area and sector | 2017 Allocations | 2017 A season ¹: A season DFA | 2017 A season ¹: SCA harvest limit ² | 2017 B season ¹: B season DFA
Bering Sea subarea TAC ¹ | 1,361,600 | n/a | n/a | n/a
CDQ DFA | 136,400 | 61,380 | 38,192 | 75,020
ICA ¹ | 47,210 | n/a | n/a | n/a
Total Bering Sea non-CDQ DFA | 1,177,991 | 530,096 | 329,837 | 647,895
AFA Inshore | 588,995 | 265,048 | 164,919 | 323,947
AFA Catcher/Processors ³ | 471,196 | 212,038 | 131,935 | 259,158
Catch by C/Ps | 431,145 | 194,015 | n/a | 237,129
Catch by CVs ³ | 40,052 | 18,023 | n/a | 22,028
Unlisted C/P Limit ⁴ | 2,356 | 1,060 | n/a | 1,296
AFA Motherships | 117,799 | 53,010 | 32,984 | 64,789
Excessive Harvesting Limit ⁵ | 206,148 | n/a | n/a | n/a
Excessive Processing Limit ⁶ | 353,397 | n/a | n/a | n/a
Aleutian Islands subarea ABC | 36,061 | n/a | n/a | n/a
Aleutian Islands subarea TAC ¹ | 2,400 | n/a | n/a | n/a
CDQ DFA | 0 | 0 | n/a | 0
ICA | 2,400 | 1,200 | n/a | 1,200
Aleut Corporation | 0 | 0 | n/a | 0
Area harvest limit ⁷
541 | 10,818 | n/a | n/a | n/a
542 | 5,409 | n/a | n/a | n/a
543 | 1,803 | n/a | n/a | n/a
Bogoslof District ICA ⁸ | 500 | n/a | n/a | n/a
¹ Pursuant to § 679.20(a)(5)(i)(A), the Bering Sea subarea pollock, after subtracting the CDQ DFA (10 percent) and the ICA (3.9 percent), is allocated as a DFA as follows: Inshore sector—50 percent, catcher/processor sector (C/P)—40 percent, and mothership sector—10 percent. In the Bering Sea subarea, 45 percent of the DFA is allocated to the A season (January 20-June 10) and 55 percent of the DFA is allocated to the B season (June 10-November 1). Pursuant to § 679.20(a)(5)(iii)(B)(2)(i)-(iii), the annual Aleutian Islands pollock TAC, after subtracting first for the CDQ directed fishing allowance (10 percent) and second the ICA (2,400 mt), is allocated to the Aleut Corporation for a pollock directed fishery. In the Aleutian Islands subarea, the A season is allocated less than or equal to 40 percent of the ABC and the B season is allocated the remainder of the pollock directed fishery.
² In the Bering Sea subarea, pursuant to § 679.20(a)(5)(i)(C), no more than 28 percent of each sector's annual DFA may be taken from the SCA before April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ The Bogoslof District is closed by the final harvest specifications to directed fishing for pollock. The amounts specified are for ICA only and are not apportioned by season or sector.
Note: Seasonal or sector apportionments may not total precisely due to rounding.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation and directed fishing closure of Aleutian Island subarea pollock. Since the pollock fishery is currently underway, it is important to immediately inform the industry as to the final Bering Sea and Aleutian Islands pollock allocations. Immediate notification is necessary to allow for the orderly conduct and efficient operation of this fishery; allow the industry to plan for the fishing season and avoid potential disruption to the fishing fleet as well as processors; and provide opportunity to harvest increased seasonal pollock allocations while value is optimum. NMFS was unable to publish a notice providing time for public comment because the most recent, relevant data only became available as June 16, 2017.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: July 6, 2017.
Emily H. Menashes,
Acting Director, Office of Sustainable Fisheries, National Marine Fisheries Service.

[FR Doc. 2017-14484 Filed 7-10-17; 8:45 am]

BILLING CODE 3510-22-P